ENVIRONMENTAL PROTECTION AGENCY

[FRL-7441-2]

Proposed Administrative Settlement Under the Comprehensive Environmental Response, Compensation and Liability Act; Vienna PCE Site

AGENCY: Environmental Protection Agency.

ACTION: Notice; request for public comment.

SUMMARY: In accordance with section 122(i)(1) of CERCLA, 42 U.S.C. 9622(i)(1), notice is hereby given of a proposed administrative settlement concerning the Vienna PCE Site, Vienna, Wood County, West Virginia. The administrative settlement was signed by the United States Environmental Protection Agency, Region III's Regional Administrator on December , 2002, and is subject to review by the public pursuant to this document.

The Environmental Protection Agency is proposing to enter into a settlement pursuant to sections 122(g)(7) and (h) of the Comprehensive Environmental Response, Compensation, and Liability Act of 1980, as amended, (CERCLA), 42 U.S.C. 9622(g)(7) and (h). The proposed settlement resolves EPA's claims for past and future response costs under section 107 of CERCLA, 42 U.S.C. 9607 against Mr. Woodrow Moss for response costs incurred at the Vienna PCE Site, Vienna, Wood County, West Virginia. The proposed settlement requires Mr. Woodrow Moss to pay $1000.00 to the EPA Hazardous Substance Fund.

Mr. Woodrow Moss, as the Settling Party, has executed binding certifications of its consent to participate in this settlement. Mr. Woodrow Moss has agreed to pay $1000.00 subject to the contingency that the Environmental Protection Agency may elect not to complete the settlement based on matters brought to its attention during the public comment period established by this document.

For 30 days following the date of publication of this notice, EPA will receive written comments relating to the proposed settlement. EPA will consider all comments received and may withdraw or withhold consent to the proposed settlement if such comments disclose facts or considerations which indicate the proposed settlement is inappropriate, improper, or inadequate. EPA's response to any written comments received will be available for public inspection at the U.S. Environmental Protection Agency, Region III, 1650 Arch Street, Philadelphia, PA 19103.

DATES: Comments must be submitted on or before February 21, 2003.

ADDRESSES: Comments should be addressed to the Docket Clerk, United States Environmental Protection Agency, Region III, 1650 Arch Street, Philadelphia, Pennsylvania 19103, and should reference: Vienna PCE Site, Vienna, Wood County, West Virginia, U.S. EPA Docket No. CERC-2002-0245DC. The proposed settlement agreement is available for public inspection at the United States Environmental Protection Agency, Region III, 1650 Arch Street, Philadelphia, Pennsylvania 19103. A copy of the proposed settlement agreement can be obtained from Suzanne Canning, Regional Docket Clerk (3RC00), Environmental Protection Agency, Region III, 1650 Arch Street, Philadelphia, Pennsylvania 19103, telephone number (215) 814-2476.

FOR FURTHER INFORMATION CONTACT: Gail P. Wilson, Senior Assistant Regional Counsel, United States Environmental Protection Agency, Office of Regional Counsel (3RC41), 1650 Arch Street, Philadelphia, Pennsylvania 19103, telephone number (215) 814-2493.

Dated: January 14, 2003.
Donald S. Welsh,
Regional Administrator, Region III.

[FR Doc. 03-1360 Filed 1-21-03; 8:45 am]

BILLING CODE 6560-50-P